DEPARTMENT OF DEFENSE

Department of the Army

[Docket ID USA-2016-HQ-0009]

Submission for OMB Review; Comment Request

ACTION: Notice.

SUMMARY: The Department of Defense has submitted to OMB for clearance, the following proposal for collection of information under the provisions of the Paperwork Reduction Act.

DATES: Consideration will be given to all comments received by September 12, 2016.

FOR FURTHER INFORMATION CONTACT: Fred Licari, 571-372-0493.

SUPPLEMENTARY INFORMATION: Title, Associated Form and OMB Number: Exchange Employee Management and Pay System; Exchange Form 1400-011 “Annuity Application”, Exchange From 1450-018 “Application for Payment of Survivor Annuity”, Exchange Form 1700-012 “Beneficiary Designation”, Exchange Form 6650-007 “Patient Health Questionnaire”, Web-based “Health/Benefit Enrollment”; OMB Control Number: 0702-XXXX.

Type of Request: In existence without OMB Control Number.

Number of Respondents: 7650.

Responses per Respondent: 1.

Annual Responses: 7650.

Average Burden per Response: 115 minutes.

Annual Burden Hours: 2533 hours.

Needs and Uses: The information collection requirement is necessary to administer a number of different benefits and pay available to eligible Exchange associates, former associates (retirees), their personal dependents, beneficiaries, spouses, and ex-spouses. This includes collecting data needed to provide and administer pay, salary and retirement funds/entitlements.

Affected Public: Individuals or households and Federal Government.

Frequency: On occasion.

Respondent's Obligation: Required to Obtain or Retain Benefits.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DoD Clearance Officer: Mr. Frederick Licari.

Written requests for copies of the information collection proposal should be sent to Mr. Licari at WHS/ESD Directives Division, 4800 Mark Center Drive, East Tower, Suite 02G09, Alexandria, VA 22350-3100.

Dated: August 8, 2016.
Aaron Siegel,
Alternate OSD Federal Register Liaison Officer, Department of Defense.

[FR Doc. 2016-19062 Filed 8-10-16; 8:45 am]

BILLING CODE 5001-06-P